DEPARTMENT OF THE INTERIOR

Fish and Wildlife Service

[Docket No. FWS-HQ-IA-2021-0008; FXIA16710900000-FF09A30000-223]

Conference of the Parties to the Convention on International Trade in Endangered Species of Wild Fauna and Flora (CITES); Nineteenth Regular Meeting; Provisional Agenda; Announcement of Virtual Public Meeting

AGENCY: Fish and Wildlife Service, Interior.

ACTION: Notice.

SUMMARY: The United States, as a Party to the Convention on International Trade in Endangered Species of Wild Fauna and Flora (CITES), will attend the nineteenth regular meeting of the Conference of the Parties to CITES (CoP19) in Panama City, Panama, November 14-25, 2022. Currently, the United States is developing its negotiating positions on proposed resolutions, decisions, and amendments to the CITES Appendices (species proposals), as well as other agenda items that have been submitted by other Parties, the permanent CITES committees, and the CITES Secretariat for consideration at CoP19. With this notice, we announce the provisional agenda for CoP19, solicit your comments on the items on the provisional agenda, and announce a virtual public meeting to discuss the items on the provisional agenda.

DATES: Virtual public meeting: The virtual public meeting will be held on September 6, 2022, at 1:00 p.m. EDT.

Comment submission: In developing the U.S. negotiating positions on species proposals and proposed resolutions, decisions, and other agenda items submitted by other Parties, the permanent CITES committees, and the CITES Secretariat for consideration at CoP19, we will consider written information and comments you submit if we receive them by September 21, 2022.

ADDRESSES: Virtual public meeting: The virtual public meeting will be held on the Zoom videoconferencing platform. For more information about the meeting, see “Announcement of Virtual Public Meeting” under SUPPLEMENTARY INFORMATION.

Comment submission: You may submit comments pertaining to items on the provisional agenda for discussion at CoP19 by one of the following methods:

(1) Electronically: https://www.regulations.gov. Follow the instructions for submitting comments on FWS-HQ-IA-2021-0008 (the docket number for this notice).

(2) U.S. Mail: Submit by U.S. mail to Public Comments Processing; Attn: Docket No. FWS-HQ-IA-2021-0008; U.S. Fish and Wildlife Service; MS: PRB (JAO/3W); 5275 Leesburg Pike, Falls Church, VA 22041-3803.

We will not accept email or faxes. Comments and materials we receive, as well as supporting documentation, will be available for public inspection on https://www.regulations.gov.

FOR FURTHER INFORMATION CONTACT: For information pertaining to resolutions, decisions, and other agenda items, contact Naimah Aziz, Branch Manager, Division of Management Authority, at 703-358-2028 (telephone); 703-358-2298 (fax); or managementauthority@fws.gov (email). For information pertaining to species proposals, contact Rosemarie Gnam, Chief, Division of Scientific Authority, at 703-358-1708 (telephone); 703-358-2276 (fax); or scientificauthority@fws.gov (email). Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION:

Background

The Convention on International Trade in Endangered Species of Wild Fauna and Flora, hereinafter referred to as CITES or the Convention, is an international treaty designed to control and regulate international trade in certain animal and plant species that are or may be affected by trade and are now, or potentially may become, threatened with extinction. Species are included in the Appendices to CITES, which are available on the CITES Secretariat's website at https://cites.org/eng/app/appendices.php.

Currently there are 184 Parties to CITES—183 countries and 1 regional economic integration organization, the European Union. The Convention calls for regular biennial meetings of the Conference of the Parties, unless the Conference decides otherwise. At these meetings, the Parties review the implementation of CITES, make provisions enabling the CITES Secretariat in Switzerland to carry out its functions, consider amendments to the list of species in Appendices I and II, consider reports presented by the Secretariat, and make recommendations for the improved effectiveness of CITES. Any country that is a Party to CITES may propose amendments to Appendices I and II, as well as resolutions, decisions, and agenda items for consideration by all the Parties.

This is our fourth in a series of Federal Register notices that, together with the announced virtual public meeting, provides you with an opportunity to participate in the development of U.S. negotiating positions for the nineteenth regular meeting of the Conference of the Parties to CITES (CoP19). We published our first CoP19-related Federal Register notice on March 2, 2021 (86 FR 12199), in which we requested information and recommendations on animal and plant species proposals and proposed resolutions, decisions, and agenda items for the United States to consider submitting for consideration at CoP19. We published our second CoP19-related Federal Register notice on March 7, 2022 (87 FR 12719); that notice described proposed resolutions, decisions, and agenda items that the United States might submit for consideration at CoP19 and provided information on how U.S. nongovernmental organizations can attend CoP19 as observers. In our third CoP19-related Federal Register notice, published on April 26, 2022 (87 FR 24577), we responded to recommendations received from the public concerning proposed amendments to the CITES Appendices (species proposals) that the United States might submit for consideration at CoP19 and invited public comments and information on these proposals.

The three prior CoP19 Federal Register notices are in the docket (FWS-HQ-IA-2021-0008) at https://www.regulations.gov. A link to these notices, along with information on U.S. preparations for CoP19, can also be found at https://www.fws.gov/program/cites/conference-parties-cites. Our regulations governing this public process are found in title 50 of the Code of Federal Regulations at 50 CFR 23.87.

On June 17, 2022, the United States submitted to the CITES Secretariat, for consideration at CoP19, its species proposals, proposed resolutions, proposed decisions, and other agenda items. These documents are listed on the CITES Secretariat's website at https://cites.org/eng/cop19.

Announcement of Provisional Agenda for CoP19

The provisional agenda for CoP19 is available on the CITES Secretariat's website at https://cites.org/eng/cop/19/agenda-documents. The working documents associated with the items on the provisional agenda, including proposed resolutions, proposed decisions, and discussion documents, can be found at that location. To view the working document associated with a particular agenda item, locate the particular agenda item on the provisional agenda, and click on the document link in the column titled “Files.” The proposals to amend Appendices I and II can be accessed at https://cites.org/eng/cop/19/amendment-proposals/provisional.

Announcement of Virtual Public Meeting

We will hold a virtual public meeting to discuss the items on the provisional agenda for CoP19. The virtual public meeting will be held on the date specified in DATES. We will post additional information regarding the virtual public meeting on our website at https://www.fws.gov/program/cites/conference-parties-cites, including how to register for the meeting, access the meeting via computer or telephone, and indicate if you intend to provide comments during the meeting. The U.S. Fish and Wildlife Service is committed to providing access to this virtual meeting for all participants, and closed captioning will be provided.

Public Comments

We will not consider comments sent by email or fax or to an address not listed in ADDRESSES. If you submit a comment via https://www.regulations.gov, your entire comment, including any personal identifying information, will be posted on the website. If you submit a hardcopy comment that includes personal identifying information, you may request at the top of your document that we withhold this information from public review. However, we cannot guarantee that we will be able to do so. We will post all hardcopy comments on https://www.regulations.gov.

Future Actions

Through another notice and website posting in advance of CoP19, we will inform you of the tentative U.S. negotiating positions on species proposals, proposed resolutions, proposed decisions, and agenda items that were submitted by other Parties, the permanent CITES committees, and the CITES Secretariat for consideration at CoP19.

Author

The primary author of this notice is Anne St. John, Division of Management Authority, U.S. Fish and Wildlife Service.

Signing Authority

Martha Williams, Director of the U.S. Fish and Wildlife Service, approved this action on August 11, 2022, for publication. On August 16, 2022, Martha Williams authorized the undersigned to sign the document electronically and submit it to the Office of the Federal Register for publication as an official document of the U.S. Fish and Wildlife Service.

Authority

The authority for this action is the Endangered Species Act of 1973, as amended (16 U.S.C. 1531 et seq.).

Madonna Baucum,
Chief, Policy and Regulations Branch, U.S. Fish and Wildlife Service.

[FR Doc. 2022-18049 Filed 8-19-22; 8:45 am]

BILLING CODE 4333-15-P